DEPARTMENT OF HOMELAND SECURITY

Coast Guard

33 CFR Part 165

[Docket No. USCG-2021-0193]

Safety Zone; Marine Events Within the Eighth Coast Guard District

AGENCY: Coast Guard, Department of Homeland Security (DHS).

ACTION: Notice of enforcement of regulation.

SUMMARY: The Coast Guard will enforce a safety zone for the St. John the Baptist Independence Day Fireworks on July 1, 2021 from 8:45 p.m. through 9:45 p.m. to provide for the safety of life on navigable waterways during this event. Our regulation for marine events within the Eighth Coast Guard District identifies the regulated area for this event on the Lower Mississippi River, by Reserve Louisiana. During the enforcement periods, the operator of any vessel in the regulated area must comply with directions from the Patrol Commander or any Official Patrol displaying a Coast Guard ensign.

DATES: The regulations in 33 CFR 165.801, Table 5, line 2, will be enforced from 8:45 p.m. though 9:45 p.m. on July 1, 2021.

FOR FURTHER INFORMATION CONTACT: If you have questions about this notice of enforcement, call or email Lieutenant Commander Thao V. Nguyen, Vessel Traffic Service Lower Mississippi River Director, U.S. Coast Guard Sector New Orleans; (504) 365-2231, Thao.V.Nguyen@uscg.mil.

SUPPLEMENTARY INFORMATION: The Coast Guard will enforce the safety zone located in 33 CFR 165.801, Table 5, line 2, for the St. John the Baptist Independence Day Celebration event. The regulations will be enforced from 8:45 p.m. through 9:45 p.m. on July 1, 2021. This action is being taken to provide for the safety of life on these navigable waterways during this event. Our regulations for marine events within the Eighth Coast Guard District, 33 CFR 165.801, as updated by the Federal Register document published at 83 FR 55488, specifies the location of the regulated area on the Mississippi River between mile markers 137.5 and 138.5 on the Mississippi River near Reserve, Louisiana. During the enforcement period, as reflected in § 165.801(a) through (d), if you are the operator of a vessel in the safety zone, you must comply with directions from the Patrol Commander or any Official Patrol displaying a Coast Guard ensign.

In addition to this notice of enforcement in the Federal Register, the Coast Guard plans to provide notification of this enforcement period via a Marine Safety Information Bulletin and/or Broadcast Notice to Mariners.

Dated: June 24, 2021.
W.E. Watson,
Captain, U.S. Coast Guard, Captain of the Port Sector New Orleans.

[FR Doc. 2021-13879 Filed 6-28-21; 8:45 am]

BILLING CODE 9110-04-P